DEPARTMENT OF TRANSPORTATION

Coast Guard

[USCG-2000-8103]

Navigation Safety Advisory Committee

AGENCY: Coast Guard, DOT.

ACTION: Notice of meeting.

SUMMARY: The Navigation Safety Advisory Council (NAVSAC) will meet to discuss various issues relating to the safety of navigation. The meeting is open to the public.

DATES: NAVSAC will meet on Monday, November 13, 2000, from 8 a.m. to 5 p.m., Tuesday, November 14, 2000, from 2:30 to 6 p.m., and on Wednesday, November 15, 2000, from 8 a.m. to 3 p.m. The meeting may close early if all business is finished. Written material should reach the Coast Guard on or before November 3, 2000. Requests to make oral presentations should reach the Coast Guard on or before November 8, 2000. Requests to have a copy of your material distributed to each member of the Council should reach the Coast Guard on or before November 3, 2000.

ADDRESSES: NAVSAC will meet at The Admiral Fell Inn; 888 South Broadway, Baltimore, MD 21231. Send written material and requests to make oral presentations to Ms. Margie G. Hegy, Commandant (G-MW), U.S. Coast Guard Headquarters, 2100 Second Street SW., Washington, DC 20593-0001.

FOR FURTHER INFORMATION CONTACT: Ms. Margie G. Hegy, Executive Director of NAVSAC, telephone 202-267-0415, fax 202-267-4700.

SUPPLEMENTARY INFORMATION: Notice of this meeting is given under the Federal Advisory Committee Act, 5 U.S.C. App. 2.

Agenda of Meeting

The meeting topics include the following:

(1) High speed craft.

(2) Aids to navigation.

(3) Crew alertness campaign.

(4) Electronic navigational aids.

You may request a copy of the agenda from Ms. Hegy at the number listed in FOR FURTHER INFORMATION CONTACT.

Procedural

The meeting is open to the public. Please note that the meeting may close early if all business is finished. At the Chair's discretion, members of the public may make oral presentations during the meetings. If you would like to make an oral presentation, please notify the Executive Director no later than November 8, 2000. Written material for distribution at a meeting should reach the Coast Guard no later than November 8, 2000. If you would like a copy of your material distributed to each member of the Council in advance of the meeting, please submit 25 copies to the Executive Director no later than November 3, 2000.

Information on Services for Individuals With Disabilities

For information on facilities or services for individuals with disabilities or to request special assistance at the meetings, contact the Executive Director as soon as possible.

Dated: October 12, 2000.
Jeffrey P. High,
Acting Assistant Commandant for Marine Safety and Environmental Protection.

[FR Doc. 00-26949 Filed 10-19-00; 8:45 am]

BILLING CODE 4910-15-M